DEPARTMENT OF HEALTH AND HUMAN SERVICES

Health Resources and Services Administration

Advisory Committee on Organ Transplantation; Notice of Meeting

AGENCY: Health Resources and Services Administration, HHS.

ACTION: Notice; amendment.

SUMMARY: The Health Resources and Services Administration published a notice in the Federal Register of September 29, 2005 (70 FR 56926-56927) announcing an Advisory Committee on Organ Transplantation meeting on November 3-4 2005. The notice is being amended to change type of meeting, place, dates, and time.

FOR FURTHER INFORMATION CONTACT: Ms. Sherry Whipple at 301-443-2764 or e-mail: swhipple@hrsa.gov.

Correction

In the Federal Register of September 29, 2005, in FR Doc. 05-19431, on page 56927, 1ST column, under the heading Summary, 8th line, change to read:

The meeting will be an Audio Conference Call on November 1, 2005, from 12 noon to 4 p.m. EST. To access the conference call, call the USA Toll Free Number 888-791-2132 and enter the Passcode “ACOT.” The conference call leader is Dr. James Burdick.

Dated: October 18, 2005.
Tina M. Cheatham,
Director, Division of Policy Review and Coordination.

[FR Doc. 05-21244 Filed 10-24-05; 8:45 am]

BILLING CODE 4165-15-P